DEPARTMENT OF THE TREASURY

Office of Foreign Assets Control

Identification of Blocked Entities Pursuant to Executive Order 13460

AGENCY: Office of Foreign Assets Control, Treasury.

ACTION: Notice.

SUMMARY: The Treasury Department's Office of Foreign Assets Control (“OFAC”) is publishing the names of two entities that have been identified as entities in which Rami Makhluf, a person whose property and interests in property are blocked pursuant to Executive Order 13460 of February 13, 2008, “Blocking Property of Additional Persons in Connection With the National Emergency With Respect to Syria,” owns, directly or indirectly, a 50 percent or greater interest. Therefore, all property and interests in property of such entities are blocked.

DATES: The identification by the Secretary of the Treasury of these two entities is effective on July 10, 2008.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available from OFAC's Web site (http://www.treas.gov/ofac) or via facsimile through a 24-hour fax-on-demand service, tel.: 202/622-0077.

Background

On May 11, 2004, the President issued Executive Order 13338 pursuant to, inter alia, the International Emergency Economic Powers Act, 50 U.S.C. 1701 et seq., the National Emergencies Act, 50 U.S.C. 1601 et seq., the Syria Accountability and Lebanese Sovereignty Restoration Act of 2003, Public Law 108-175, and section 301 of title 3, United States Code. In Executive Order 13338, the President declared a national emergency to address the threat posed by the actions of the Government of Syria in supporting terrorism, continuing its occupation of Lebanon, pursuing weapons of mass destruction and missile programs, and undermining the United States and international efforts with respect to the stabilization and reconstruction of Iraq.

On February 13, 2008, the President issued Executive Order 13460 (the “Order”) pursuant to, inter alia, the International Emergency Economic Powers Act, 50 U.S.C. 1701 et seq., the National Emergencies Act, 50 U.S.C. 1601 et seq., and section 301 of title 3, United States Code. In the Order, the President found that the Government of Syria continues to engage in certain conduct that formed the basis for the national emergency declared in Executive Order 13338 of May 11, 2004, including but not limited to undermining efforts with respect to the stabilization of Iraq. The President further found that the conduct of certain members of the Government of Syria and other persons contributing to public corruption related to Syria, including by misusing Syrian public assets or by misusing public authority, entrenches and enriches the Government of Syria and its supporters and thereby enables the Government of Syria to continue to engage in certain conduct that formed the basis for the national emergency declared in Executive Order 13338.

Section 1 of the Order blocks, with certain exceptions, all property and interests in property of the following persons, that are in the United States, that hereafter come within the United States, or that are or hereafter come within the possession or control of United States persons: Persons who are determined by the Secretary of the Treasury, in consultation with the Secretary of State, to be responsible for, to have engaged in, to have facilitated, or to have secured improper advantage as a result of, public corruption by senior officials within the Government of Syria.

On July 10, 2008, the Secretary of the Treasury identified two entities in which Rami Makhluf, whose property and interests in property are blocked pursuant to Executive Order 13460, owns, directly or indirectly, a 50 percent or greater interest. Therefore, all property and interests in property of such entities are blocked.

The list of blocked entities is as follows:

1. RAMAK (a.k.a. RAMAK DUTY FREE; a.k.a. RAMAK DUTY FREE SHOP LTD; a.k.a. RAMAK DUTY FREE SHOPS—SYRIA; a.k.a. RAMAK DUTY FREE SHOPS LTD.; a.k.a. RAMAK FIRM FOR FREE TRADE ZONES), Free Zone Area, Jamarek, P.O. Box 932, Damascus, Syria; Al Rawda Street, P.O. Box 932, Damascus, Syria; Abu Ramana Street, Rawda, Damascus, Syria; Damascus Duty Free, Damascus International Airport, Damascus, Syria; Dara'a Duty Free, Naseeb Border Center, Dara'a, Syria; Aleppo Duty Free, Aleppo International Airport, Aleppo, Syria; Jdaideh Duty Free Complex, Jdaideh Yaboos, Damascus, Syria; Bab el Hawa Border Center, Aleppo, Syria; Lattakia Port, Lattakia, Syria; Tartous Port, Tartous, Syria; E-mail Address dam.d.free@net.sy (Syria); Web site http://www.ramakdutyfree.net (Syria) [SYRIA].

2. SYRIATEL (a.k.a. SYRIATEL MOBILE; a.k.a. SYRIATEL MOBILE TELECOM; a.k.a. SYRIATEL MOBILE TELECOM SA), Doctors Syndicate Building, Al Jalaa Street, Abu Roumaneh Area, P.O. Box 2900, Damascus, Syria [SYRIA].

Dated: July 18, 2008.
Adam J. Szubin,
Director, Office of Foreign Assets Control.

[FR Doc. E8-19152 Filed 8-18-08; 8:45 am]

BILLING CODE 4811-45-P